INTERNATIONAL TRADE COMMISSION

[Investigation No. 731-TA-1070 (Preliminary)]

Certain Tissue Paper Products and Crepe Paper Products From China

Determination

On the basis of the record ¹ developed in the subject investigation, the United States International Trade Commission (Commission) determines, pursuant to section 733(a) of the Tariff Act of 1930 (19 U.S.C. 1673b(a)) (the Act), that there is a reasonable indication that an industry in the United States is materially injured by reason of imports from China of certain tissue paper products and that an industry in the United States is materially injured by reason of imports from China of crepe paper products that are alleged to be sold in the United States at less than fair value (LTFV). The tissue paper products and crepe paper products subject to this investigation do not have specific classification numbers assigned to them under the Harmonized Tariff Schedule of the United States (HTS) and appear to be imported under one or more of several different residual or “basket” categories, including but not necessarily limited to the following subheadings: 4802.30; 4802.54; 4802.61; 4802.62; 4802.69; 4804.39; 4806.40; 4808.30; 4808.90; 4811.90; 4823.90; and 9505.90.40.

¹ The record is defined in sec. 207.2(f) of the Commission's Rules of Practice and Procedure (19 CFR 207.2(f)).

Commencement of Final Phase Investigation

Pursuant to section 207.18 of the Commission's rules, the Commission also gives notice of the commencement of the final phase of its investigation. The Commission will issue a final phase notice of scheduling, which will be published in the FR as provided in section 207.21 of the Commission's rules, upon notice from the Department of Commerce (Commerce) of an affirmative preliminary determination in the investigation under section 733(b) of the Act, or, if the preliminary determination is negative, upon notice of an affirmative final determination in that investigation under section 735(a) of the Act. Parties that filed entries of appearance in the preliminary phase of the investigation need not enter a separate appearance for the final phase of the investigation. Industrial users, and, if the merchandise under investigation is sold at the retail level, representative consumer organizations have the right to appear as parties in Commission antidumping and countervailing duty investigations. The Secretary will prepare a public service list containing the names and addresses of all persons, or their representatives, who are parties to the investigation.

Background

On February 17, 2004, a petition was filed with the Commission and Commerce by Seaman Paper Company of Massachusetts, Inc. (Otter River, MA), American Crepe Corporation (Montoursville, PA), Eagle Tissue LLC (South Windsor, CT), Flower City Tissue Mills Co. (Rochester, NY), Garlock Printing & Converting, Inc. (Gardner, MA), Paper Service Ltd. (Hinsdale, NH), Putney Paper Co., Ltd. (Putney, VT), and the Paper, Allied-Industrial, Chemical and Energy Workers International Union AFL-CIO, CLC, alleging that industries in the United States are materially injured by reason of LTFV imports of certain tissue paper products and crepe paper products from China. Accordingly, effective February 17, 2004, the Commission instituted antidumping duty investigation No. 731-TA-1070 (Preliminary).

Notice of the institution of the Commission's investigation and of a public conference to be held in connection therewith was given by posting copies of the notice in the Office of the Secretary, U.S. International Trade Commission, Washington, DC, and by publishing the notice in the FR of February 23, 2004 (69 FR 8232). The conference was held in Washington, DC, on March 9, 2004, and all persons who requested the opportunity were permitted to appear in person or by counsel. The Commission transmitted its determination in this investigation to the Secretary of Commerce on April 2, 2004. The views of the Commission are contained in USITC Publication 3682 (April 2004), entitled Certain Tissue Paper Products and Crepe Paper Products from China: Investigation No. 731-TA-1070 (Preliminary).

By order of the Commission.
Issued: April 9, 2004.
Marilyn R. Abbott,
Secretary to the Commission.

[FR Doc. 04-8579 Filed 4-14-04; 8:45 am]

BILLING CODE 7020-02-P